DEPARTMENT OF AGRICULTURE

Natural Resources Conservation Service

Choccolocco Creek Multipurpose Dam No. 11, Calhoun County, AL

AGENCY: Natural Resources Conservation Service, USDA.

ACTION: Notice of availability of a finding of no significant impact.

SUMMARY: Pursuant to Section 102[2][c] of the National Environmental Policy Act of 1969, the Council on Environmental Quality Regulations [40 CFR part 1500]; and the Natural Resources Conservation Service Regulations [7 CFR part 650]; the Natural Resources Conservation Service, U.S. Department of Agriculture, gives notice that an environmental impact statement is not being prepared for the Choccolocco Creek Multipurpose Dam No. 11, Calhoun County, Alabama.

FOR FURTHER INFORMATION CONTACT: Ken Aycock, Hydraulic Engineer, USDA Natural Resources Conservation Service, 3381 Skyway Drive, Auburn, Alabama 36830, Telephone [334] 887-4525, e-mail ken.aycock@al.usda.gov.

SUPPLEMENTARY INFORMATION: The Environmental Assessment of this federally assisted action indicates that the project will not cause significant local, regional, or national impacts on the environment. As a result of these findings, Gary Kobylski, State Conservationist, has determined that the preparation and review of an environmental impact statement is not needed for this project.

The project purpose is continued municipal water supply and flood prevention. The planned works of improvement include upgrading an existing municipal water supply, flood-prevention dam.

The Notice of a Finding of No Significant Impact [FONSI] has been forwarded to the U.S. Environmental Protection Agency and to various Federal, state, and local agencies and interest parties. A limited number of the FONSI are available to fill single copy requests at the above address. Basic data developed during the environmental assessment are on file and may be reviewed by contacting Ken Aycock at the above number.

No administrative action on implementation of the proposal will be taken until 30 days after the date of this publication in the Federal Register.

Signed in Auburn, Alabama, on May 22, 2006.
Gary Kobylski,
State Conservationist.

[This activity is listed in the Catalog of Federal Domestic Assistance under 10.904, Watershed Protection and Flood Prevention, and is subject to the provisions of Executive Order 12372, which requires inter-government consultation with State and local officials].

Finding of No Significant Impact for Choccolocco Creek Watershed Multipurpose Dam No. 11, Calhoun County, Alabama

May 22, 2006.

Introduction

The Choccolocco Creek Watershed is a federally assisted action authorized for planning under Public Law 106-472, the Small Watershed Rehabilitation Act, which amends Public Law 83-566, the Watershed Protection and Flood Prevention Act. An environmental assessment was undertaken in conjunction with development of the watershed plan. This assessment was conducted in consultation with local, State, and Federal agencies as well as with interested organizations and individuals. Data developed during the assessment are available for public review at the following location: U.S. Department of Agriculture, Natural Resources Conservation Service, 3381 Skyway Drive, Auburn, Alabama 36830.

Recommended Action

This document describes a plan for upgrading an existing municipal water supply, and flood-prevention structure, Choccolocco Creek Watershed Multipurpose Dam No. 11 [MPD No. 11], to meet current dam safety criteria for a high-hazard dam. The plan calls for raising the dam with a concrete parapet wall, raising/reinforcing the auxiliary spillway, and reinforcing downstream toe of dam. Works of improvement will be accomplished by providing financial and technical assistance through the Water Works and Sewer Board of the City of Anniston, Alabama.

The principal project measures are to:

1. Construct a concrete parapet wall on top of the existing earth embankment to increase height of dam 5 feet and store flood water from the probable maximum precipitation rainfall event.

2. Raise the auxiliary spillway 0.5 feet and reinforcing the surface utilizing turf reinforcement.

3. Reinforce the downstream toe of dam using grouted riprap.

The measures will be planned and installed by developing a contract with the current operator of the dam.

Effects of Recommended Action

Installing these measures will bring MPD No. 11 into compliance with current dam safety criteria for a high-hazard dam. This will essentially eliminate the risk to loss of life for individuals in 21 homes, 1 water treatment plant, 1 mile of roadway, and 2 bridges. Additional effects will include retention of the municipal water supply and continued protection against flooding, water quality benefits, fishing activities, recreational opportunities, protected land values, protected road and utility networks, and reduced maintenance costs for public infrastructure.

Wildlife habitat will be minimally disturbed during installation activities since most construction activity will occur on the dam and spillway which are covered in grass. No wetlands, wildlife habitat, fisheries, prime farmland, or cultural resources will be destroyed or threatened by this project. The disturbance of soil from dam modification activities will temporarily impact a 0.5 acre wetland. The 175-acre lake area and the beneficial characteristics it provides to the environment (pollutant filtration, ecological diversity, wildlife habitat, etc.) will be maintained. Fishery habitats will also be maintained.

No endangered or threatened plant or animal species will be adversely affected by the project.

There are no wilderness areas in the watershed.

Alternatives

Six alternative plans of action were considered in project planning. No significant adverse environmental impacts are anticipated from installation of the selected alternative. Also, the planned action is the most practical, complete, and acceptable means of protecting life and property of downstream residents and maintaining the municipal water supply.

Consultation—Public Participation

Original sponsoring organizations include the Water Works and Sewer Board of the City of Anniston, Alabama; Calhoun, Clay, Cleburne, and Talladega County Soil and Water Conservation Districts; Calhoun, Clay, Cleburne, and Talladega County Commissions; and the Choccolocco Creek Watershed Conservancy District. At the initiation of the planning process, meetings were held with representatives of the original sponsoring organizations to ascertain their interest and concerns regarding the Choccolocco Creek Watershed. The Water Works and Sewer Board of the City of Anniston, Alabama, agreed to serve as “lead sponsor” being responsible for leading the planning process with assistance from NRCS. As lead sponsor they also agreed to provide non-Federal cost-share, property rights, operation and maintenance, and public participation during, and beyond, the planning process.

An Interdisciplinary Planning Team provided for the “technical” administration of this project. Technical administration includes tasks pursuant to the NRCS nine-step planning process, and planning procedures outlined in the NRCS-National Planning Procedures Handbook. Examples of tasks completed by the Planning Team include, but are not limited to, Preliminary Investigations, Hydrologic Analysis, Reservoir Sedimentation Surveys, Economic Analysis, Formulating and Evaluating Alternatives, and Writing the Watershed Plan—Environmental Assessment. Data collected from partner agencies, databases, landowners, and others throughout the entire planning process, were presented at the public meeting on June 28, 2005. Informal discussions amongst planning team members, partner agencies, and landowners were conducted throughout the entire planning period.

Public Participation

A public meeting was held on June 28, 2005 to explain the Small Watershed Rehabilitation Program and to scope resource problems, issues, and concerns of local residents associated with the MPD No. 11 project area. Potential alternative solutions to bring MPD No. 11 into compliance with current dam safety criteria for a high-hazard dam were also presented. Twenty-one meeting participants heard summaries of planning accomplishments to date, provided input on issues and concerns to be considered in the planning process, and identified which planning alternative [i.e. No Action, Decommission, Structural, Non-Structural] was most desirable.

Conclusion

The Environmental Assessment summarized above indicates that this Federal action will not cause significant adverse local, regional, or national impacts on the environment. Therefore, based on the above findings, I have determined that an environmental impact statement for the recommended plan of action on Choccolocco Creek Watershed MPD No. 11 is not required.

Dated: May 22, 2006.
Gary Kobylski,
State Conservationist.

[FR Doc. E6-8591 Filed 6-2-06; 8:45 am]

BILLING CODE 3410-16-P